DEPARTMENT OF LABOR

Employment and Training Administration

[TA-W-50,031]

Saunders Brothers, Inc., Including Temporary Workers of Express Personnel Services and Rock Coast Personnel, Westbrook, Maine; Amended Certification Regarding Eligibility To Apply for Worker Adjustment Assistance

In accordance with Section 223 of the Trade Act of 1974 (19 U.S.C. 2273) the Department of Labor issued a Certification of Eligibility to Apply for Worker Adjustment Assistance on December 3, 2002, applicable to workers of Saunders Brothers, Inc., Westbrook, Maine. The notice was published in the Federal Register on December 23, 2002 (67 FR 78256).

At the request of the petitioners, the Department reviewed the certification for workers of the subject firm. Information provided by the company shows that temporary workers of Express Personnel Services and Rock Coast Personnel worked at Saunders Brothers, Inc., to produce hardwood dowels, dowel pins, turnings, artist brush handles, and other miscellaneous wood products at the Westbrook, Maine, location of the subject firm.

Based on these findings, the Department is amending this certification to include temporary workers of Express Personnel Services and Rock Coast Personnel working at Saunders Brothers, Inc., Westbrook, Maine.

The intent of the Department's certification is to include all workers of Saunders Brothers, Inc., who were adversely affected by increased imports.

The amended notice applicable to TA-W-50,031 is hereby issued as follows:

All workers of Saunders Brothers, Inc., Westbrook, Maine, and temporary workers of Express Personnel Services and Rock Coast Personnel, engaged in producing hardwood dowels, dowel pins, turnings, artist brush handles, and other miscellaneous wood products at Saunders Brothers, Inc., Westbrook, Maine, who became totally or partially separated from employment on or after November 7, 2001, through December 3, 2004, are eligible to apply for adjustment assistance under Section 223 of the Trade Act of 1974.

Signed at Washington, DC this 10th day of April 2003.
Linda G. Poole,
Certifying Officer, Division of Trade Adjustment Assistance.

[FR Doc. 03-10134 Filed 4-23-03; 8:45 am]

BILLING CODE 4510-30-P